HARRY S. TRUMAN SCHOLARSHIP FOUNDATION

Sunshine Act Meeting: Annual Meeting of the Trustees and Officers Of the Harry S. Truman Scholarship Foundation

Time and date: 11 a.m. to 12:15 p.m., September 3, 2003.

Place: U.S. Capitol, Room HC-7.

Status: This meeting is open to the public.

Matters to be considered: 1. Call to Order.

2. Welcome and Introductions.

3. Approval of the Minutes of the 2002 Annual Meeting.

4. Comments from President Albright: Priorities, Work Plan and Schedule for 2003.

5. Report from Executive Secretary: 2003 Selection Process; Financial Report.

6. Report on Truman Scholars Forum, March 22.

7. Old Business.

8. New Business.

9. Adjournment.

FOR FURTHER INFORMATION CONTACT: Louis H. Blair, Executive Secretary, Harry S. Truman Scholarship Foundation, 712 Jackson Place, NW., Washington, DC 20006, (202) 395-4831, office@truman.gov.

Louis H. Blair,
Executive Secretary.

[FR Doc. 03-21171 Filed 8-15-03; 11:54 am]

BILLING CODE 6820-AD-P